FEDERAL COMMUNICATIONS COMMISSION

Emergency Alert System National Advisory Committee

AGENCY: Federal Communications Commission.

ACTION: Notice.

SUMMARY: The Federal Communications Commission will host the annual meeting of the Emergency Alert System National Advisory Committee (NAC) on May 10, 2002, at the FCC headquarters. The meeting will serve to advise the Commission on Emergency Alert System issues.

DATES: May 10, 2002, 9 a.m.-12 (noon).

ADDRESSES: Federal Communications Commission, 445 12th Street, SW., Commission Meeting Room, Washington, DC 20554.

FOR FURTHER INFORMATION CONTACT: Bonnie Gay, Federal Communications Commission, 445 12th Street, SW., Washington, DC 20554 (phone: (202) 418-1228) (fax: (202) 418-2817).

SUPPLEMENTARY INFORMATION: In 1994, the Federal Communications Commission (FCC) established the Emergency Alert System (EAS) to replace the Emergency Broadcast System (EBS). The EAS uses various Communications technologies to alert the public regarding national, state and local emergencies. The NAC was established to assist the FCC in administering EAS.

The general topic will be emergency communication matters relating to EAS.

Attendance at the NAC meeting is open to the public, but limited to space availability. Members of the general public may file a written statement with the FCC at the above contact address before or after the meeting. Members of the public wishing to make an oral statement during the meeting must consult with the NAC at the above FCC contact address prior to the meeting. Minutes of the meeting will be available after the meeting at the above contact address.

Federal Communications Commission.
William F. Caton,
Acting Secretary.

[FR Doc. 02-9730 Filed 4-19-02; 8:45 am]

BILLING CODE 6712-01-P